OFFICE OF GOVERNMENT ETHICS

Submission for OMB Review; Comment Request: Updated Qualified Trust Model Certificates and Model Trust Documents

AGENCY: Office of Government Ethics (OGE).

ACTION: Notice.

SUMMARY: The Office of Government Ethics has submitted the proposed updated executive branch qualified trust model certificates and draft documents to the Office of Management and Budget (OMB) for for review and three-year extension of approval under the Paperwork Reduction Act. A total of twelve OGE model certificates and documents are involved.

DATES: Comments by the public and agencies on this information collection as proposed for revision should be received by February 15, 2002.

ADDRESSES: Comments should be sent to Joseph F. Lackey, Jr., Office of Information and Regulatory Affairs, Office of Management and Budget, New Executive Office Building, Room 10235, Washington, DC 20503; Telephone: 202-395-7316.

FOR FURTHER INFORMATION CONTACT: Mary T. Donovan at the U.S. Office of Government Ethics; Telephone: 202-208-8000, ext. 1185; TDD 202-208-8025; FAX 202-208-8038. Copies of the executive branch qualified trust model certificates and documents may be obtained, without charge, by contacting Ms. Donovan.

SUPPLEMENTARY INFORMATION: The Office of Government Ethics is the supervising ethics office for the executive branch of the Federal Presidential nominees to executive branch positions subject to Senate confirmation and any other executive branch officials may seek OGE approval for Ethics Act qualified blind or diversified trusts to be used to avoid conflicts of interest.

The Office of Government Ethics is the sponsoring agency for the model certificates and model trust documents for qualified blind and diversified trusts of executive branch officials set up under section 102(f) of the Ethics Act, 5 U.S.C. app. § 102(f), and OGE's implementing financial disclosure regulations at subpart D of 5 CFR part 2634. The various model certificates and model trust documents are utilized by OGE and settlors, trustees and other fiduciaries in establishing and administering these qualified trusts.

On July 3, 2001, OGE issued its first round Federal Register notice to announce its forthcoming request to OMB for paperwork renewal of the updated qualified trust model certificates and model trust documents. See 66 FR 35243-35244, with comments due by September 17, 2001. (OGE did not receive any comments or requests for copies of the updated qualified trust model certificates and model trust documents.) In that notice, and this one, OGE has proposed a minor change to the qualified trust model documents. The Office of Government Ethics has proposed to substitute the words “mailing address” for the words “home address” where they appear within the model trust documents. The proposed change is a minor improvement that will enhance privacy with respect to trust instruments once executed. No change is needed for the model certificates of independence and compliance as codified at appendices A-C to 5 CFR part 2634.

The Office of Government Ethics has submitted updated versions of all twelve qualified trust certificates and model documents described below (all of which are included under OMB paperwork control number 3209-0007, currently cleared through the end of January 2002) for a three-year extension of approval by OMB under the Paperwork Reduction Act (44 U.S.C. chapter 35).

There are two categories of information collection requirements, each with its own related reporting model certificates or model trust documents which are subject to paperwork review and approval by OMB. The OGE regulatory citations for these two categories, together with identification of the forms used for their implementation, are as follows:

i. Qualified trust certifications—5 CFR 2634.401(d)(2), 2634.403(b)(11), 2634.404(c)(11), 2634.406(a)(3) & (b), 2634.408, 2634.409 and appendixes A & B to part 2634 (the two implementing forms, the Certificate of Independence and Certificate of Compliance, are codified respectively in the cited appendixes; see also the Privacy Act and Paperwork Reduction Act notices thereto in appendix C); and

ii. Qualified trust communications and model provisions and agreements—5 CFR 2634.401(c)(1)(i) & (d)(2), 2634.403(b), 2634.404(c), 2634.408 and 2634.409 (the ten implementing forms are the: (A) Blind Trust Communications (Expedited Procedure for Securing Approval of Proposed Communications); (B) Model Qualified Blind Trust Provisions; (C) Model Qualified Diversified Trust Provisions; (D) Model Qualified Blind Trust Provisions (For Use in the Case of Multiple Fiduciaries); (E) Model Qualified Blind Trust Provisions (For Use in the Case of an Irrevocable Pre-Existing Trust); (F) Model Qualified Diversified Trust Provisions (Hybrid Version); (G) Model Qualified Diversified Trust Provisions (For Use in the Case of Multiple Fiduciaries); (H) Model Qualified Diversified Trust Provisions (For Use in the Case of an Irrevocable Pre-Existing Trust); (I) Model Confidentiality Agreement Provisions (For Use in the Case of a Privately Owned Business); and (J) Model Confidentiality Agreement Provisions (For Use in the Case of Investment Management Activities)).

The various model trust certificates and model trust documents as proposed to be modified are available without charge to the public upon request as indicated in the “For Further Information Contact” section above.

The communications formats and the confidentiality agreements (items ii (A), (I) and (J) above) would not be available to the public because they contain sensitive, confidential information. All the other completed model trust certificates and model trust documents (except for any trust provisions that relate to the testamentary disposition of trust assets) are publicly available based upon a proper Ethics Act request (by filling out an OGE Form 201 access form).

The total annual public reporting burden represents the time involved for completing qualified trust certificates and model trust documents which are processed by OGE. The burden is based on the amount of time imposed on private citizens. Virtually all filers/document users are private trust administrators and other private representatives who help to set up and maintain the qualified blind and diversified trusts. The detailed paperwork estimates below for the various trust certificates and model trust documents, which remain the same as for the last paperwork clearance three years ago, are based primarily on OGE's experience with administration of the qualified trust program.

i. Trust Certificates

A. Certificate of Independence: Total filers (executive branch): 10; Private citizen filers (100%): 10; OGE-processed certificates (private citizens): 10; OGE burden hours (20 minutes/certificate): 3.

B. Certificate of Compliance: Total filers (executive branch): 35; Private citizen filers (100%): 35; OGE-processed certificates (private citizens): 35; OGE burden hours (20 minutes/certificate): 12; and

ii. Model Qualified Trust Documents

A. Blind Trust Communications: Total Users (executive branch): 35; Private citizen users (100%): 35; OGE-processed documents (private citizens): 210 (based on an average of six communications per user, per year); OGE burden hours (20 minutes/communication): 70.

B. Model Qualified Blind Trust: Total Users (executive branch): 10; Private citizen users (100%): 10; OGE-processed models (private citizens): 10; OGE burden hours (100 hours/model): 1,000.

C. Model Qualified Diversified Trust: Total users (executive branch): 15; Private citizen users (100%): 15; OGE-processed models (private citizens): 15; OGE burden hours (100 hours/model): 1,500.

D.-H. Each of the five remaining model qualified trust documents: Total users (executive branch): 2; Private citizen users (100%): 2; OGE-processed models (private citizens): 2, multiplied by 5 (five different models) = 10; OGE burden hours (100 hours/model): 200, multiplied by 5 (five different models) = 1,000.

I.-J. Each of the two model confidentiality agreements: Total users (executive branch): 2; Private citizens users (100%): 2; OGE-processed agreements (private citizens): 2, multiplied by 2 (two different models) = 4; OGE burden hours (50 hours/agreement): 100, multiplied by 2 (two different models) = 200.

Based on these estimates, the total number of forms expected annually at OGE remains unchanged at 294 with a cumulative total of 3,785 burden hours.

In this second round notice, public comment is again invited on all aspects of OGE's qualified trust model certificates and model trust documents as proposed for renewal with minor revision, including specifically views on: the accuracy of OGE's public burden estimate; the potential for enhancement of quality, utility, and clarity of the information to be collected; and the minimization of burden (including the possibility of use of information technology). The Office of Government Ethics, in consultation with OMB, will consider all comments received, which will become a matter of public record.

Approved: January 10, 2002.
Amy L. Comstock,
Director, Office of Government Ethics.

[FR Doc. 02-1144 Filed 1-15-02; 8:45 am]

BILLING CODE 6345-01-P